DEPARTMENT OF ENERGY

Federal Energy Regulatory Commission

[Docket Nos. ER05-134-001, ER05-134-002, and EL05-91-000]

ISO New England Inc.; Notice of Technical Conference

May 18, 2005

.

Take notice that the Commission will convene a technical conference on Thursday, June 9, 2005, at 9 a.m. (EST), at the offices of the Federal Energy Regulatory Commission, 888 First Street, NE., Washington, DC 20426 in conference room 3M-2A.

The purpose of the conference is to explore the issues raised, gain an understanding of the facts, and obtain additional information about the positions of the parties regarding Schedule 3 of the ISO New England Inc.'s Tariff for Transmission Dispatch and Power Administration Services, through which it collects its administrative costs for providing Reliability Administration Service (RAS). The Commission directed its staff to convene this technical conference in an April 19, 2005 Order.¹ Issues the participants will be asked to address include but are not limited to:

¹ ISO New England Inc., 111 FERC ¶ 61,096 (2005).

(1) What is the rationale underlying the assignment of RAS costs based on load obligation? How well does the current cost allocation match the costs of the RAS with the benefits received from the service? How many and what type of market participants (e.g., financial marketers, generators, etc.) are negatively affected by the current rate design?

(2) What is the rationale for assigning RAS costs as proposed under the alternative cost allocation? How well does the alternative cost allocation match the costs of the RAS with the benefits received from the service? Explain why exports should be treated differently from all other load obligations?

(3) Quantify the impact that the asserted “seam” caused by the current RAS rate design has had (and would have) on cross-border transactions? Assess the overall impact of both rate designs on the liquidity and efficiency of New England markets.

(4) Are the rate designs used by NYISO and PJM for similar reliability services the same as the alternative rate design proposed here? If not, how do they differ and what effect would the differences have on the costs assessed for a participant with the same load profile obligation in each of the RTO/ISOs? Would seams still exist if the alternative rate design were adopted by ISO-NE?

FERC conferences are accessible under section 508 of the Rehabilitation Act of 1973. For accessibility accommodations please send an e-mail to accessibility@ferc.gov or call toll free (866) 208-3372 (voice) or 202-208-01659 (TTY), or send a FAX to 202-208-2106 with the required accommodations.

All interested persons are permitted to attend. There will be no transcript of the conference. For further information please contact Elizabeth Arnold at (202) 502-8818 or e-mail elizabeth.arnold@ferc.gov.

Magalie R. Salas,
Secretary.

[FR Doc. E5-2610 Filed 5-24-05; 8:45 am]

BILLING CODE 6717-01-P